DEPARTMENT OF LABOR

Employment and Training Administration

Proposed Information Collection Request Submitted for Public Comment and Recommendations; Labor Condition Applications and Requirements for Employers Using Nonimmigrants on H-1B Visas in Specialty Occupations and as Fashion Models

AGENCY: Employment and Training Administration, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95), 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension to the collection of information on the Labor Condition Application for H-1B nonimmigrants. A copy of the proposed Information Collection Request (ICR) can be obtained by contacting the office listed below in the addresses section of this notice.

DATES: Written comments must be submitted to the office listed in the addresses section below on or before November 10, 2003.

ADDRESSES: Comments and questions regarding the collection of information on Form ETA 9035, Labor Condition Application for H-1B Nonimmigrants, should be directed to William L. Carlson, Chief, Division of Foreign Labor Certification, U.S. Department of Labor, 200 Constitution Avenue, NW., Room C-4318, Washington, DC 20210, (202) 693-3010 (this is not a toll-free number).

SUPPLEMENTARY INFORMATION:

I. Background

The Immigration and Naturalization Act (INA) requires that before any alien may be admitted or otherwise provided status as an H-1B nonimmigrant, the prospective employer must have filed with the Department of Labor (Department) a Labor Condition Application (LCA) stating that they will offer prevailing wages and working conditions, that there is not a strike or lockout in the course of a labor dispute in the occupational classification at the place of employment, and that they have provided notice of such filing to the bargaining representative or, if there is none, by posting notice of filing in conspicuous locations at the place of employment. Further, the employer must make certain documentation available for public examination. The Department's review of LCA's is limited by law solely to a review for completeness or “obvious inaccuracies.” Complaints may be filed with the Department alleging a violation of the LCA process. If reasonable cause is found to believe a violation has been committed, the Department will conduct an investigation and, if appropriate, assess penalties. The INA places a limit on the number of aliens who can be admitted to the U.S. on H-1B visas or otherwise provided H-1B nonimmigrant status (195,000 in FY ‘03 and 65,000 in each succeeding fiscal year). The INA generally limits these workers to a maximum of six years duration of stay under H-1B status although extensions are permitted for certain aliens on whose behalf an alien labor certification or employment-based immigrant petition has been pending for 365 days or more.

The INA requires that the Department make available for public examination in Washington, DC, a list of employers which have filed LCA's.

II. Review Focus

The Department of Labor is particularly interested in comments which:

• Evaluate whether the proposed information collection is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collections techniques or other forms of information, e.g., permitting electronic submissions of responses.

III. Current Actions

In order for the Department to meet its statutory responsibilities under the INA there is a need for an extension of an existing collection of information pertaining to the Labor Condition Application and Requirements for Employers Using Nonimmigrants on H-1B Visas in Specialty Occupations and as Fashion Models.

Type of Review: Extension of a currently approved collection without change.

Agency: Employment and Training Administration, Labor.

Title: Labor Condition Application and Requirements for Employers Using Nonimmigrants on H-1B Visas in Specialty Occupations and as Fashion Models.

OMB Number: 1205-0310.

Affected Public: Businesses or other for-profit; not-for-profit institutions; Federal government; State, Local or Tribal government.

Form: Form ETA 9035.

Total Respondents: 250,000.

Frequency of Response: On occasion.

Total Responses: 250,050.

Average Burden Hours per Response: 1.25.

Estimate Total Annual Burden Hours: 250,050.

Comments submitted in response to this notice will be summarized and/or included in the request for Office of Management and Budget approval of the ICR; they will also be a matter of public record.

Signed at Washington DC, this 4th day of September, 2003.
Emily Stover DeRocco,
Assistant Secretary, Employment and Training Administration.

[FR Doc. 03-23133 Filed 9-10-03; 8:45 am]

BILLING CODE 4510-30-P